DEPARTMENT OF TRANSPORTATION

Federal Aviation Administration

Notification of Policy Revisions, and Requests for Comments on the Percentage of Fabrication and Assembly that Must Be Completed by an Amateur Builder to Obtain an Experimental Airworthiness Certificate for an Amateur-Built Aircraft

AGENCY: Federal Aviation Administration (FAA), DOT.

SUMMARY: This notice announces revisions to (1) Chapter 4, Special Airworthiness Certification, Section 9 of the FAA Order 8130.2F, Airworthiness Certification of Aircraft and Related Products, (2) Advisory Circular (AC) 20-27G, Certification and Operation of Amateur-Built Aircraft (AC 20-27G is the result of combining AC 20-27F and AC 20-139, Commercial Assistance During Construction of Amateur-Built Aircraft), and (3), requests comments on the percentage of fabrication and assembly that must be completed by an amateur builder to obtain an experimental airworthiness certificate for an amateur-built aircraft. This action is being taken because the FAA has determined that the existing Order and ACs do not adequately state the required levels of fabrication/assembly or guidance on use of commercial assistance. As a result, the existing Order and Advisory Circulars require revision. The FAA is seeking comments on these revisions.

FOR FURTHER INFORMATION CONTACT: Frank Paskiewicz, Manager, Production and Airworthiness Division, AIR-200, Federal Aviation Administration, 800 Independence Ave., SW., Washington, DC 20591; telephone number: (202) 267-8361.

SUPPLEMENTARY INFORMATION:

Background

The FAA established an Amateur-Built Aviation Rulemaking Committee (ARC) in July, 2006. The ARC, made up of representatives from the FAA, aircraft kit manufacturers, commercial assistance center owners and associations, was asked to make recommendations regarding the use of builder or commercial assistance when fabricating and assembling amateur-built aircraft intended for certification under Title 14 Code of Federal Regulations (14 CFR) part 21.191(g). The committee concluded that the existing procedures used for evaluation of aircraft kits are inadequate, need updating, and are not used in a standardized manner.

On February 15, 2008, the FAA published a notice in the Federal Register (73 FR 8926), which temporarily suspended amateur-built aircraft kit evaluations. The FAA concluded that a temporary suspension of kit evaluation was necessary because the existing FAA Order and Advisory Circulars used to evaluate these kits has resulted in inconsistent determinations regarding regulatory compliance.

As a result of the ARC findings, the FAA proposes to revise Chapter 4, Special Airworthiness Certification, Section 9, of FAA Order 8130.2F and combine AC 20-27G and AC 20-139 used in amateur-built aircraft kit evaluations.

The FAA believes that new guidance is necessary to ensure that an amateur builder completes the necessary amount of fabrication and assembly (the major portion) of an aircraft to be in compliance with § 21.191(g). A determination of major portion is made by evaluating the amount of work accomplished by the amateur builder(s) against the total amount of work necessary to complete the aircraft. The major portion of the aircraft is defined as more than 50 percent of the fabrication and assembly tasks.

The FAA most recently addressed fabrication and assembly in an FAA internal directive, FAA Order 8130.2B, dated October 20, 1987, which stated in pertinent part, “* * * the ‘major portion' of the aircraft is considered to mean more than 50 percent of the fabrication and more than 50 percent of the assembly.” Editorial changes in subsequent revisions inadvertently shortened this statement to “more than 50 percent of the fabrication and assembly operations.” This had the unintended consequence of not specifying a minimum amount of fabrication and assembly as intended by the regulation.

In the last 25 to 30 years there has been significant deviation from this intent as a result of increasing sophistication of designs and materials as well as advances in kit manufacturing processes. In some cases the FAA has found that, depending upon the aircraft design, the amateur builder only fabricates 10 to 20 percent of an aircraft, and assembles 80 to 90 percent. The trend by kit manufacturers for more assembly and less fabrication results in work for the amateur builder that primarily consists of assembly of prepared parts. This is contrary to the intent of § 21.191(g).

To ensure consistency and standardization concerning amateur-built kit aircraft evaluations, the FAA proposes to clarify how much fabrication and assembly must be performed by the amateur builder. The FAA is proposing that an amateur builder fabricate a minimum of 20 percent of an aircraft and assemble a minimum of 20 percent of the aircraft. The FAA also clarifies the role of commercial assistance, which includes both the pre-fabrication of parts and direct assistance to the builder, as part of the remaining 49 percent (manufacturer and commercial assistance). The figure below illustrates this clarification.

A stated level of builder fabrication is necessary for the FAA to issue the amateur builder a repairman certificate after showing compliance with § 65.104. Among other requirements, that section requires the experimental aircraft builder to be the primary builder of the aircraft, and to show to the satisfaction of the Administrator that the individual has the requisite skill to determine whether the aircraft is in a condition for safe operations.

The FAA is seeking comments on the proposed minimum percentage of fabrication and assembly that would be required in order for an amateur-built aircraft to qualify for a special airworthiness certificate in the experimental category. In addition, the FAA seeks comments to Chapter 4, Special Airworthiness Certification, Section 9, of FAA Order 8130.2F, Airworthiness Certification of Aircraft and Related Products, and AC 20-27G, Certification and Operation of Amateur-Built Aircraft. Both of these documents are available at http://www.faa.gov. Paper copies of these documents may be obtained by writing to Frank Paskiewicz, Manager, Production and Airworthiness Division, AIR-200, Federal Aviation Administration, 800 Independence Ave., SW., Washington, DC 20591.

Issued in Washington, DC on July 9, 2008.
Frank Paskiewicz,
Manager, Production and Airworthiness Division.

[FR Doc. E8-16093 Filed 7-14-08; 8:45 am]

BILLING CODE 4910-13-P